DEPARTMENT OF ENERGY

Federal Energy Regulatory Commission

[Docket No. CP16-28-000]

National Fuel Gas Supply Corporation; Notice of Revised Schedule for Environmental Review of the Line QP, Line Q, and Queen Storage Project

This notice identifies the Federal Energy Regulatory Commission staff's revised schedule for the completion of the environmental assessment (EA) for National Fuel Gas Supply Corporation's (National Fuel) Line QP, Line Q, and Queen Storage Project. The first notice of schedule, issued on January 10, 2017, identified April 13, 2017 as the final EA issuance date. However, additional coordination with cooperating agencies was necessary to meet their National Environmental Policy Act requirements. As a result, staff has revised the schedule for issuance of the EA.

Schedule for Environmental Review

Issuance of EA: June 1, 2017.

90-day Federal Authorization Decision Deadline: August 30, 2017.

If a schedule change becomes necessary, an additional notice will be provided so that the relevant agencies are kept informed of the project's progress.

Additional Information

In order to receive notification of the issuance of the EA and to keep track of all formal issuances and submittals in specific dockets, the Commission offers a free service called eSubscription. This can reduce the amount of time you spend researching proceedings by automatically providing you with notification of these filings, document summaries, and direct links to the documents. Go to (http://www.ferc.gov/docs-filing/esubscription.asp).

Additional information about the Project is available from the Commission's Office of External Affairs at (866) 208-FERC or on the FERC Web site (www.ferc.gov). Using the “eLibrary” link, select “General Search” from the eLibrary menu, enter the selected date range and “Docket Number” excluding the last three digits (i.e., CP16-28), and follow the instructions. For assistance with access to eLibrary, the helpline can be reached at (866) 208-3676, TTY (202) 502-8659, or at FERCOnlineSupport@ferc.gov. The eLibrary link on the FERC Web site also provides access to the texts of formal documents issued by the Commission, such as orders, notices, and rule makings.

Dated: April 13, 2017.
Kimberly D. Bose,
Secretary.

[FR Doc. 2017-07970 Filed 4-19-17; 8:45 am]

BILLING CODE 6717-01-P